DEPARTMENT OF TRANSPORTATION

Surface Transportation Board

[Docket No. FD 35766]

City of Belfast, Me.—Acquisition Exemption—Certain Assets of Belfast and Moosehead Lake Railroad Company

The City of Belfast, Me. (the City), a noncarrier municipality, has filed a verified notice of exemption under 49 CFR 1150.31 to acquire a line of railroad between Pierce Street in downtown Belfast, Me., to the Belfast/Waldo town line at milepost 3.14 (the Line).¹

¹ In a related proceeding currently held in abeyance, the City is seeking authorization to abandon a portion of the Line. See City of Belfast, Me.—Aban. Exemption—in Belfast, Me., Docket No. AB 1109X.

The City states that it acquired the Line from Unity Property Management by Release Deed dated July 2, 2010. The City now seeks Board authorization for that transaction. The City states that it has not provided any freight service over the Line and was not aware at the time that it needed Board authorization to acquire the Line.

The City certifies that it derives only de minimis revenue from the Line and that the projected annual revenues as a result of this transaction will not exceed those that would qualify the City as a Class III rail carrier.

The exemption will become effective on January 9, 2014.²

² This notice was scheduled to be published in the Federal Register during the time that the agency was closed due to a lapse in appropriations. Publication of this notice was further delayed by the unique circumstances of this case and the related abandonment proceeding. As a result, the effective date of the exemption has been delayed.

If the verified notice contains false or misleading information, the exemption is void ab initio. Petitions to revoke the exemption under 49 U.S.C. 10502(d) may be filed at any time. The filing of a petition to revoke will not automatically stay the effectiveness of the exemption. Petitions to stay must be filed no later than January 2, 2014.

An original and 10 copies of all pleadings, referring to Docket No. FD 35766, must be filed with the Surface Transportation Board, 395 E Street SW., Washington, DC 20423-0001. In addition, a copy of each pleading must be served on Kristin M. Collins, Kelly & Collins, LLC, 96 High Street, Belfast, ME 04915.

Board decisions and notices are available on our Web site at “WWW.STB.DOT.GOV.”

Decided: December 20, 2013.
By the Board,
Rachel D. Campbell,
Director, Office of Proceedings.
Raina S. White,
Clearance Clerk.

[FR Doc. 2013-30824 Filed 12-24-13; 8:45 am]

BILLING CODE 4915-01-P